CIVIL RIGHTS COMMISSION

Sunshine Act Meeting Notice

AGENCY: United States Commission on Civil Rights.

ACTION: Notice of Commission public business meeting.

DATES: Friday August 21, 2020, 12 p.m. ET.

FOR FURTHER INFORMATION CONTACT: Zakee Martin: 202-376-7700; publicaffairs@usccr.gov.

ADDRESSES: Meeting to take place by telephone and open to the public by telephone: 1-877-238-4695, Conference ID 873-1601. Computer assisted real-time transcription (CART) will be provided. The web link to access CART (in English) on Friday August 21, 2020, is https://www.streamtext.net/player?event=USCCR. Please note that CART is text-only translation that occurs in real time during the meeting and is not an exact transcript.

Meeting Agenda

I. Approval of Agenda

II. Closed Session

A closed session may occur during this business meeting for an unlimited duration.

Entering Closed Session: The telephone line will remain open while the Commissioners meet in closed session. If you enter the Commission meeting during the closed session, the telephone operator will inform you of the Commission meeting status. Announcements will be made by the telephone operation periodically every 5 to 7 minutes. An announcement will be made at the end of the closed session announcing the reconvening of the Commission meeting and providing the time the meeting will resume.

III. Business Meeting

A. Presentation by Diane Citrino, Chair of Ohio Advisory Committee on the Committee's report, Education Funding and Civil Rights in Ohio

B. Presentation by Alvina Earnhart, Chair of Colorado Advisory Committee on the Committee's report, Citizenship Delayed: Civil Rights and Voting Rights Implications of the Backlog in Citizenship and Naturalization Applications

C. Discussion and vote on Commission Advisory Committees

• Vermont Advisory Committee

• Idaho Advisory Committee

• Kansas Advisory Committee

D. Discussion and vote on the Commission's report, Navigating Voting During the COVID-19 Pandemic: Considerations in Access for Minority Voters

E. Discussion and vote on amendment to Administrative Instruction 5-9, Advisory Committee Member Conduct Policy

F. Discussion and vote on Commission project planning for Fiscal Years 2021 and 2022

G. Discussion and vote on Commission statement on the passing of C.T. Vivian

H. Management and Operations

• Staff Director's Report

III. Adjourn Meeting.

Dated: August 13, 2020.
David Mussatt, Supervisory Chief, Regional Programs Unit.

[FR Doc. 2020-18049 Filed 8-13-20; 4:15 pm]

BILLING CODE P